DEPARTMENT OF VETERANS AFFAIRS

[OMB Control No. 2900-0021]

Agency Information Collection Activity: VA Loan Electronic Reporting Interface (Valeri) System

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0021.

SUPPLEMENTARY INFORMATION:

Authority: Public Law 104-13; 44 U.S.C. 3501-3521.

Title: VA Loan Electronic Reporting Interface (VALERI) System.

OMB Control Number: 2900-0021.

Type of Review: Extension of a currently approved collection.

Abstract: VA provides the authority for VA-guaranteed mortgage servicers to assist veteran borrowers and their families experiencing financial difficulty. VA then provides oversight of the servicers' actions by collecting specific documentation and data. In today's environment, this collection is done via the VALERI application. Federal Regulations under 38 CFR 36.4300 require specific, critical information be provided to VA and without the collection of such documentation and data, the number of foreclosures of VA-guaranteed loans and homeless veterans would potentially increase.

An agency may not conduct or sponsor, and a person is not required to respond to a collection of information unless it displays a currently valid OMB control number. The Federal Register Notice with a 60-day comment period soliciting comments on this collection of information was published on February 24, 2020 at 85 FR 10512, pages 10512-10513.

Affected Public: Business or other for profit.

Estimated Annual Burden: 70 hours.

Estimated Average Burden per Respondent: 1 minute.

Frequency of Response: One time.

Estimated Number of Respondents: 967.

By direction of the Secretary.
Danny S. Green,
VA PRA Clearance Officer, Office of Quality, Performance and Risk Department of Veterans Affairs.

[FR Doc. 2020-10318 Filed 5-13-20; 8:45 am]

BILLING CODE 8320-01-P